Proclamation 8718 of September 21, 2011

National Hispanic-Serving Institutions Week, 2011

By the President of the United States of America

A Proclamation

To win the future and restore our position as the global leader in education, we must ensure all young Americans, regardless of background, have the opportunity to realize their full potential. As our Nation’s largest minority group, Hispanics represent more than 11 million students in America’s public elementary and secondary schools. During National Hispanic-Serving Institutions (HSIs) Week, we renew our commitment to strengthening and expanding opportunities in higher education for our next generation of Hispanic leaders.

The hundreds of HSIs across our country are helping Hispanic students gain access to a quality higher education. These institutions play an essential role in equipping students with the skills necessary to thrive in the 21st century. Graduates of HSIs are leaders in science, technology, engineering, and math—fields that are crucial to America’s competitiveness in an increasingly global economy. As hubs of research and innovation, they are integral to helping us achieve our goal of having the highest proportion of college graduates in the world by 2020.

Last year, I renewed and enhanced the White House Initiative on Educational Excellence for Hispanics to improve educational outcomes for Hispanic students from pre-school through higher education and adult education. We are working to expand access to pre-kindergarten programs and reduce high school drop-out rates for Hispanic students, while recruiting more Hispanic teachers and school leaders. Building on this foundation, we are committed to strengthening the capacity of HSIs and other higher education institutions serving Hispanic students to provide the best education possible.

This week, as we celebrate the immeasurable contributions HSIs have made to our Nation, we are reminded that in this new century, America will only be as strong as the opportunities we provide to all our people. Our future is inextricably tied to the future of the Hispanic community, and by working to strengthen HSIs, we will secure a brighter tomorrow for our children, helping them reach for the dream that has come to define our Nation.

NOW, THEREFORE, I, BARACK OBAMA, President of the United States of America, by virtue of the authority vested in me by the Constitution and the laws of the United States, do hereby proclaim September 18 through September 24, 2011, as National Hispanic-Serving Institutions Week. I call on public officials, educators, and all the people of the United States to observe this week with appropriate programs, ceremonies, and activities that acknowledge the tremendous contributions these institutions and their graduates have made to our country.

IN WITNESS WHEREOF, I have hereunto set my hand this twenty-first day of September, in the year of our Lord two thousand eleven, and of the Independence of the United States of America the two hundred and thirty-sixth.

[FR Doc. 2011-24888

Filed 9-23-11; 11:15 am]

Billing code 3195-W1-P